COMMISSION ON CIVIL RIGHTS

Notice of Public Meeting of the New York Advisory Committee to the U.S. Commission on Civil Rights

AGENCY: U.S. Commission on Civil Rights.

ACTION: Announcement of web briefing.

SUMMARY: Notice is hereby given, pursuant to the provisions of the rules and regulations of the U.S. Commission on Civil Rights (Commission) and the Federal Advisory Committee Act, that the New York Advisory Committee (Committee) will hold a public meeting via Zoom on Friday, November 18, 2022, at 1 p.m. ET to conduct Committee business and hear testimony regarding the child welfare system in New York.

DATES: The meeting will take place on Friday, November 18, 2022, from 1 p.m.-3 p.m. ET.

Registration Link: https://tinyurl.com/y7csh24.

Telephone (Audio Only): Dial 1-833-568-8864 USA Toll Free; Meeting ID: 160 234 3571.

FOR FURTHER INFORMATION CONTACT: Mallory Trachtenberg, DFO, at mtrachtenberg@usccr.gov or 202-809-9618.

SUPPLEMENTARY INFORMATION: Committee meetings are available to the public through the conference link above. Any interested member of the public may listen to the meeting. An open comment period will be provided to allow members of the public to make a statement as time allows. If joining via phone, callers can expect to incur regular charges for calls they initiate over wireless lines, according to their wireless plan. The Commission will not refund any incurred charges. Individuals who are deaf, deafblind, and hard of hearing may also follow the proceedings by first calling the Federal Relay Service at 800-877-8339 and providing the Service with the conference details found through registering at the web link above. To request additional accommodations, please email Sarah Villanueva svillanueva@usccr.gov at least ten (10) days prior to the meeting.

Members of the public are also entitled to submit written comments; the comments must be received within 30 days following the meeting. Written comments may be emailed to mtrachtenberg@usccr.gov. Persons who desire additional information may contact the Regional Programs Coordination Unit at 202-809-9618.

Records of the meeting will be available via www.facadatabase.gov under the Commission on Civil Rights, New York Advisory Committee link. Persons interested in the work of this Committee are directed to the Commission's website, http://www.usccr.gov, or may contact the Regional Programs Coordination Unit at the above phone number.

Agenda

I. Welcome Remarks and Committee Business

II. Panelist Presentations and Committee Q&A

III. Public Comment

IV. Closing Remarks

V. Adjournment

Dated: November 1, 2022.
David Mussatt,
Supervisory Chief, Regional Programs Unit.

[FR Doc. 2022-24054 Filed 11-3-22; 8:45 am]

BILLING CODE P